DEPARTMENT OF TRANSPORTATION

Federal Aviation Administration

14 CFR Part 39

[Docket No. 2003-NM-178-AD; Amendment 39-13760; AD 2004-16-04]

RIN 2120-AA64

Airworthiness Directives; Short Brothers Model SD3 Series Airplanes

AGENCY: Federal Aviation Administration, DOT.

ACTION: Final rule.

SUMMARY: This amendment adopts a new airworthiness directive (AD), applicable to all Short Brothers Model SD3 series airplanes. This AD requires testing for stiffness of the aft pintle pin bushing of the main landing gear (MLG), and inspecting and measuring the aft pintle pin bushings of the MLG for damage, and for out-of-limit dimensions of the bushing bore. This AD also requires corrective action if necessary. This action is necessary to detect and correct corrosion and deterioration of the aft pintle pin bushings of the MLG. Corrosion and deterioration of the bushings, if not detected and corrected, could result in the MLG not extending fully during landing, with consequent damage to the airplane structure. This action is intended to address the identified unsafe condition.

DATES: Effective September 14, 2004.

The incorporation by reference of certain publications listed in the regulations is approved by the Director of the Federal Register as of September 14, 2004.

ADDRESSES: The service information referenced in this AD may be obtained from Short Brothers, Airworthiness & Engineering Quality, P.O. Box 241, Airport Road, Belfast BT3 9DZ, Northern Ireland. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all Short Brothers Model SD3 series airplanes was published in the Federal Register on June 14, 2004 (69 FR 32922). That action proposed to require testing for stiffness of the aft pintle pin bushing of the main landing gear (MLG), and inspecting and measuring the aft pintle pin bushings of the MLG for damage, and for out-of-limit dimensions of the bushing bore. That action also proposed to require corrective action if necessary.

Comments

Interested persons have been afforded an opportunity to participate in the making of this amendment. No comments were submitted in response to the proposal or the FAA's determination of the cost to the public.

Conclusion

The FAA has determined that air safety and the public interest require the adoption of the rule as proposed.

Interim Action

We consider this proposed AD interim action. If final action is later identified, we may consider further rulemaking then.

Cost Impact

The FAA estimates that 108 airplanes of U.S. registry will be affected by this AD, that it will take approximately 30 work hours per airplane to accomplish the required actions, and that the average labor rate is $65 per work hour. Based on these figures, the cost impact of the AD on U.S. operators is estimated to be $210,600, or $1,950 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-16-04 Short Brothers PLC: Amendment 39-13760. Docket 2003-NM-178-AD.

Applicability: All Model SD3 series airplanes, certificated in any category.

Compliance: Required as indicated, unless accomplished previously.

To detect and correct corrosion and deterioration of the aft pintle pin bushings of the main landing gear (MLG), which could result in the MLG not extending fully during landing, with consequent damage to the airplane structure, accomplish the following:

Service Bulletin Reference

(a) The term “service bulletin,” as used in this AD, means the Accomplishment Instructions of the following service bulletins, as applicable:

(1) For Model SD3-30 series airplanes: Short Brothers Service Bulletin SD330-32-122, dated April 30, 2003.

(2) For Model SD3 SHERPA series airplanes: Short Brothers Service Bulletin SD3 SHERPA-32-3, dated April 30, 2003.

(3) For Model SD3-60 SHERPA series airplanes: Short Brothers Service Bulletin SD360 SHERPA-32-2, dated April 30, 2003.

(4) For Model SD3-60 series airplanes: Short Brothers Service Bulletin SD360-32-36, Revision 1, dated May 26, 2003.

Note 1: Short Brothers Service Bulletin SD360-32-36 references Short Brothers Service Bulletin SD360-32-03, dated November 1983, as an additional source of service information for replacement of certain bushings, if necessary.

Tests, Inspection, Measurements, and Corrective Action

(b) Within 24 months after the effective date of this AD: Do a friction test for stiffness of the aft pintle pin bushings of the MLG, and a detailed inspection for any defect of the bushings of the aft pintle pin of the MLG; and measure the bore diameter of the bushings (if a defect is found, this paragraph requires that the bushing be replaced; therefore, it is not necessary to do the bore diameter measurement on that bushing). Do all applicable corrective actions and other specified actions prior to further flight. Do all actions per the applicable service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

No Reporting Requirement

(c) Although the service bulletins specify to send certain items to Short Brothers for evaluation (i.e., results of the friction tests, unserviceable bushings, and photographs of serviceable bushings), this AD does not require that action.

Alternative Methods of Compliance

(d) In accordance with 14 CFR 39.19, the Manager, ANM-116, FAA, Transport Airplane Directorate, is authorized to approve alternative methods of compliance for this AD.

Incorporation by Reference

(e) The actions shall be done in accordance with the Short Brothers service bulletins listed in Table 1 of this AD, as applicable.

Table 1.—Applicable Service Bulletins
Short Brothers service bulletin | Revision level | Date
SD330-32-122 | Original | April 30, 2003.
SD360-32-36 | Revision 1 | May 26, 2003.
SD3 SHERPA-32-3 | Original | April 30, 2003.
SD360 SHERPA-32-2 | Original | April 30, 2003.

Short Brothers Service Bulletin SD360-32-36, Revision 1, dated May 26, 2003, contains the following effective pages:

Page No. | Revision level shown on page | Date shown on page
1, 6 | 1 | May 26, 2003.
2-5, 7-13 | Original | April 30, 2003.

This incorporation by reference was approved by the Director of the Federal Register in accordance with 5 U.S.C. 552(a) and 1 CFR part 51. Copies may be obtained from Short Brothers, Airworthiness & Engineering Quality, P.O. Box 241, Airport Road, Belfast BT3 9DZ, Northern Ireland. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 3: The subject of this AD is addressed in British airworthiness directives 001-04-2003 (for Model SD3-30 series airplanes), 002-04-2003 (for Model SD3-60 series airplanes), 004-04-2003 (for Model SD3 SHERPA series airplanes), and 003-04-2003 (for Model SD3-60 SHERPA series airplanes).

Effective Date

(f) This amendment becomes effective on September 14, 2004.

Issued in Renton, Washington, on July 27, 2004.
Kyle L. Olsen,
Acting Manager, Transport Airplane Directorate, Aircraft Certification Service.

[FR Doc. 04-17759 Filed 8-9-04; 8:45 am]

BILLING CODE 4910-13-P